DEPARTMENT OF TRANSPORTATION

Federal Motor Carrier Safety Administration

[Docket No. FMCSA-2025-0688]

Parts and Accessories Necessary for Safe Operation; Application for Exemption From Intelligent Motorist Alert Messaging Systems

AGENCY: Federal Motor Carrier Safety Administration (FMCSA), DOT.

ACTION: Notice of application for exemption; request for comments.

SUMMARY: FMCSA requests public comment on an application for a 5-year exemption submitted by Intelligent Motorist Alert Messaging Systems (IMAMS). The applicant seeks an exemption for autonomous commercial motor vehicles (CMVs) from the regulation that requires the use of traditional warning devices to alert other vehicles when the CMV has become disabled. The exemption would allow autonomous CMVs to use IMAMS dynamic digital LED messaging platform as an alternative to traditional warning devices. FMCSA requests public comment on IMAMS's application.

DATES: Comments must be received on or before December 31, 2025.

ADDRESSES: You may submit comments identified by Federal Docket Management System (FDMS) Number FMCSA-2025-0688 by any of the following methods:

• Federal eRulemaking Portal: www.regulations.gov. See the Public Participation and Request for Comments section below for further information.

• Mail: Dockets Operations, U.S. Department of Transportation, 1200 New Jersey Avenue SE, West Building, Ground Floor, Washington, DC 20590-0001.

• Hand Delivery or Courier: West Building, Ground Floor, 1200 New Jersey Avenue SE, between 9 a.m. and 5 p.m. E.T., Monday through Friday, except Federal holidays.

• Fax: (202) 493-2251.

Each submission must include the Agency name and the docket number (FMCSA-2025-0688) for this notice. Note that DOT posts all comments received without change to www.regulations.gov, including any personal information included in a comment. Please see the Privacy Act heading below.

Docket: For access to the docket to read background documents or comments, go to www.regulations.gov at any time or visit the ground level of the West Building, 1200 New Jersey Avenue SE, Washington, DC, between 9 a.m. and 5 p.m., ET, Monday through Friday, except Federal holidays. To be sure someone is there to help you, please call (202) 366-9317 or (202) 366-9826 before visiting Dockets Operations.

Privacy Act: In accordance with 49 U.S.C. 31315(b), DOT solicits comments from the public to better inform its regulatory process. DOT posts these comments, including any personal information the commenter provides, to www.regulations.gov as described in the system of records notice DOT/ALL 14-FDMS, which can be reviewed at https://www.transportation.gov/individuals/privacy/privacy-act-system-records-notices. The comments are posted without edit and are searchable by the name of the submitter.

FOR FURTHER INFORMATION CONTACT: Mr. David Sutula, Chief, Vehicle and Roadside Operations Division, Office of Carrier, Driver, and Vehicle Safety, FMCSA, at (202)-961-1373, or by email at MCPSV@dot.gov.

If you have questions on viewing or submitting material to the docket, contact Dockets Operations at (202) 366-9826.

SUPPLEMENTARY INFORMATION:

I. Public Participation and Request for Comments

FMCSA encourages you to participate by submitting comments and related materials.

Submitting Comments

If you submit a comment, please include the docket number for this notice (FMCSA-2025-0688), indicate the specific section of this document to which the comment applies, and provide a reason for suggestions or recommendations. You may submit your comments and material online or by fax, mail, or hand delivery, but please use only one of these means. FMCSA recommends that you include your name and a mailing address, an email address, or a phone number in the body of your document so the Agency can contact you if it has questions regarding your submission.

To submit your comment online, go to www.regulations.gov and put the docket number “FMCSA-2025-0688” in the keyword box, and click “Search.” Next, sort the results by “Posted (Newer-Older),” choose the first notice listed, click the “Comment” button, and type your comment into the text box on the following screen. Choose whether you are submitting your comment as an individual or on behalf of a third party and then submit. If you submit your comments by mail or hand delivery, submit them in an unbound format, no larger than 8½ by 11 inches, suitable for copying and electronic filing. If you submit comments by mail and would like to know that they reached the facility, please enclose a stamped, self-addressed postcard or envelope. FMCSA will consider all comments and material received during the comment period.

II. Legal Basis

FMCSA has authority under 49 U.S.C. 31136(e) and 31315(b) to grant exemptions from Federal Motor Carrier Safety Regulations (FMCSRs). FMCSA must publish a notice of each exemption request in the Federal Register (49 CFR 381.315(a)). The Agency must provide the public an opportunity to inspect the information relevant to the application, including the applicant's safety analysis. The Agency must provide an opportunity for public comment on the request.

The Agency reviews the application, safety analyses, and public comments submitted and determines whether granting the exemption would likely achieve a level of safety equivalent to, or greater than, the level that would be achieved without the exemption, pursuant to the standard set forth in 49 CFR 381.305(a)). The Agency must publish its decision in the Federal Register (49 CFR 381.315(b)). If granted, the notice will identify the regulatory provision from which the applicant will be exempt, the effective period, and all terms and conditions of the exemption (49 CFR 381.315(c)(1)). If the exemption is denied, the notice will explain the reason for the denial (49 CFR 381.315(c)(2)). The exemption may be renewed (49 CFR 381.300(b)).

III. Applicant's Request

Current Regulatory Requirements

The applicable FMCSRs in 49 CFR 392.22(b) require the driver of a CMV stopped on the traveled portion or the shoulder of a highway for any cause other than a necessary traffic stop to activate hazard warning signal flashers and place required warning devices as soon as possible, but within ten minutes, at specified locations behind and in front of the stopped CMV. The regulations also prescribe placement of warning devices in certain circumstances, such as during daylight hours, or when the CMV is stopped within 500 feet of a curve, the crest of a hill, or any other obstruction that prevents clear visibility. (49 CFR 392.22(b)(2)).

In addition, the FMCSRs specify the types and number of warning devices that may be used. Specifically, each CMV must be equipped with three bidirectional emergency reflective triangles, or at least six fusees, or three liquid-burning flares. (49 CFR 393.95(f)(1) and (2)). Other devices may be used in addition to the required ones, provided they do not reduce the effectiveness of the required devices. (49 CFR 393.95(f)(3)).

Applicant's Request

The application requests an exemption from the requirements of 49 CFR 392.22(b)(1) and (2) to allow the use of IMAMS dynamic digital LED messaging platform as an alternative safety system for disabled, autonomous CMVs on the road, which the applicant asserts will enhance motorist awareness and roadway safety. The IMAMS platform is a dynamic digital LED messaging sign that is securely mounted on the rear doors and front dash of semi-trailers and large CMVs.

The application explains that when an autonomous vehicle activates its emergency flashers, the IMAMS platform will automatically display a series of high-visibility, LED-lit messages to oncoming traffic. These messages cycle through “ALERT-ALERT” (in red), “MOVE OVER” (in amber), “SLOW DOWN” (in amber), and “DISABLED VEHICLE” (in amber), providing clear, immediate warnings.

The applicant emphasizes that IMAMS is an equivalent or superior alternative to traditional warning devices, as it activates automatically, which eliminates the delay and risks associated with manual placement of triangles or flares.

Although the application did not specifically request an exemption from 49 CFR 393.95(f)(1) and (2), FMCSA notes that the application would require an exemption from this section as it specifies the types and number of warning devices that are to be equipped on each power unit. These options include 3 bidirectional emergency reflective triangles that conform to the requirements of Federal Motor Vehicle Safety Standard (FMVSS) No. 125, or at least 6 fusees or 3 liquid-burning flares as are necessary to satisfy the requirements of § 392.22. Under the regulations, other warning devices may be used in addition to, but not in lieu of, the required devices provided that they do not reduce the effectiveness of the required devices. Accordingly, if FMCSA were to allow the IMAMS platform as the sole emergency warning device, an exemption from 49 CFR 393.95(f)(1) and (2) would be necessary.

A copy of IMAMS's application for exemption, and all supporting materials, are available for review in the docket for this notice.

IV. Request for Comments

In accordance with 49 U.S.C. 31315(b), FMCSA requests public comment from all interested persons on IMAMS's application for a five-year exemption from 49 CFR 392.22(b)(1) and(2) and 49 CFR 393.95(f)(1) and (2).

All comments received before the close of business on the comment closing date will be considered and will be available for examination in the docket at the location listed under the Addresses section of this notice. Comments received after the comment closing date will be filed in the public docket and may be considered to the extent practicable. In addition to late comments, FMCSA will also continue to file, in the public docket, relevant information that becomes available after the comment closing date. Interested persons should continue to examine the public docket for new material.

Larry W. Minor,
Associate Administrator for Policy.

[FR Doc. 2025-21619 Filed 11-28-25; 8:45 am]

BILLING CODE 4910-EX-P